DEPARTMENT OF ENERGY

Federal Energy Regulatory Commission

Combined Notice of Filings No. 2

November 20, 2009.

Take notice that the Commission has received the following Natural Gas Pipeline Rate and Refund Report filings:

Docket Numbers: RP02-361-079.

Applicants: Gulfstream Natural Gas System, L.L.C.

Description: Gulfstream Natural Gas System submits Second Revised Sheet 192A to its FERC Gas Tariff, First Revised Volume 1, to be effective 10/1/09.

Filed Date: 11/13/2009.

Accession Number: 20091118-0101.

Comment Date: 5 p.m. Eastern Time on Wednesday, November 25, 2009.

Docket Numbers: RP99-480-027.

Applicants: Texas Eastern Transmission, LP.

Description: Texas Eastern Transmission, LP submits Original Sheet 121F et al. to FERC Gas Tariff, Seventh Revised Volume 1, to be effective 12/1/08.

Filed Date: 11/13/2009.

Accession Number: 20091118-0102.

Comment Date: 5 p.m. Eastern Time on Wednesday, November 25, 2009.

Docket Numbers: RP10-118-001.

Applicants: Gulf South Pipeline Company, LP.

Description: Gulf South Pipeline Company, LP submits capacity release agreements containing negotiated rate provisions.

Filed Date: 11/17/2009.

Accession Number: 20091119-0052.

Comment Date: 5 p.m. Eastern Time on Monday, November 30, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-28400 Filed 11-25-09; 8:45 am]

BILLING CODE 6717-01-P